DEPARTMENT OF COMMERCE

International Trade Administration

[A-588-054; A-588-604]

Tapered Roller Bearings, Four Inches or Less in Outside Diameter, and Components Thereof, From Japan and Tapered Roller Bearings and Parts Thereof, Finished and Unfinished, From Japan; Antidumping Duty Administrative Reviews; Time Limits

AGENCY: Import Administration, International Trade Administration, Department of Commerce.

ACTION: Notice of extension of time limits.

SUMMARY: The Department of Commerce (the Department) is extending the time limits for the preliminary results of the 1998-1999 administrative reviews of the antidumping finding (A-588-054) and duty order (A-588-604) on tapered roller bearings from Japan. These reviews cover 3 manufacturers/exporters of the subject merchandise to the United States and the period October 1, 1998 through September 30, 1999.

EFFECTIVE DATE: May 26, 2000.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue NW., Washington, DC 20230.

SUPPLEMENTARY INFORMATION: Because it is not practicable to complete these reviews within the normal statutory time limit, the Department is extending the time limits for completion of the preliminary results until October 31, 2000 in accordance with section 751(a)(3)(A) of the Tariff Act of 1930, as amended. See Memorandum from Joseph A. Spetrini to Troy H. Cribb, on file in Room B-099 of the main Commerce building. The deadline for the final results of this review will continue to be 120 days after publication of the preliminary results.

These extensions are in accordance with section 751(a)(3)(A) of the Tariff Act of 1930, as amended (19 U.S.C. 1675 (a)(3)(A)).

Dated: May 15, 2000.
Joseph A. Spetrini,
Deputy Assistant Secretary, AD/CVD Enforcement Group III.

[FR Doc. 00-13318 Filed 5-25-00; 8:45 am]

BILLING CODE 3510-DS-P